DEPARTMENT OF EDUCATION

List of Approved “Ability-to-Benefit” (ATB) Tests and Passing Scores

AGENCY: Department of Education.

ACTION: Update notice.

SUMMARY: The Secretary provides an update to the list of ATB tests to include the WorkKeys Program test—Forms Reading for Information: A01AA, A02AA, C01AA, D10AA, and Applied Mathematics: A01BB, A02BB, C01BB, and D01BB. The Secretary has approved the WorkKeys Program test and its passing scores under section 484(d) of the Higher Education Act of 1965, as amended (HEA), and the implementing regulations in 34 CFR Part 668, Subpart J. An institution may use the WorkKeys Program test as an approved ATB test to determine if a student who does not have a high school diploma or its recognized equivalent is eligible to receive funds under any title IV, HEA program. The title IV, HEA programs include the Federal Pell Grant, Federal Family Education Loan, William D. Ford Federal Direct Loan, Federal Perkins Loan, Federal Work-Study, Federal Supplemental Educational Opportunity Grant, and the Leveraging Educational Assistance Partnership (LEAP) programs.

FOR FURTHER INFORMATION CONTACT: David Morgan, U.S. Department of Education, Federal Student Aid, Union Center Plaza, 830 First Street, NE., Washington, DC 20202-5345. Telephone: (202) 377-4033.

If you use a telecommunications device for the deaf (TDD), you may call the Federal Information Relay Service (FIRS) at 1-800-877-8339.

Individuals with disabilities may obtain a copy of this document in an alternative format (e.g., Braille, large print, audiotape, or computer diskette) on request to the contact person listed under FOR FURTHER INFORMATION CONTACT.

SUPPLEMENTARY INFORMATION: The Secretary is amending the list of approved ATB tests and passing scores that was published in the Federal Register on May 11, 2004 (69 FR 26087) by adding the WorkKeys Program test and its passing scores. The list was published under the authority of section 484(d) of the Higher Education Act of 1965, as amended (HEA) and the regulations the Secretary promulgated to implement that section in 34 CFR Part 668, Subpart J.

List of approved tests and passing scores: For the convenience of all interested parties, we list below all approved ATB tests and their passing scores that may be used as approved ATB tests.

1. ASSET Program: Basic Skills Tests (Reading, Writing, and Numerical)—Forms B2, C2, D2 and E2.

Passing Scores: The approved passing scores on this test are as follows: Reading (35), Writing (35), and Numerical (33).

Publisher: The test publisher and the address, contact person, telephone, and fax number of the test publisher are: American College Testing (ACT), Placement Assessment Programs, 2201 North Dodge Street, P.O. Box 168, Iowa City, Iowa 52243, Contact: Dr. John D. Roth, Telephone: (319) 337-1030, Fax: (319) 337-1790.

2. Career Programs Assessment (CPAT) Basic Skills Subtests (Language Usage, Reading and Numerical)—Forms B and C.

Passing Scores: The approved passing scores on this test are as follows: Language Usage (42), Reading (43), and Numerical (41).

Publisher: The test publisher and the address, contact person, telephone, and fax number of the test publisher are: American College Testing (ACT), Placement Assessment Programs, 2201 North Dodge Street, P.O. Box 168, Iowa City, Iowa 52243, Contact: Dr. John D. Roth, Telephone: (319) 337-1030, Fax: (319) 337-1790.

3. COMPASS Subtests: Prealgebra/Numerical Skills Placement, Reading Placement, and Writing Placement.

Passing Scores: The approved passing scores on this test are as follows: Prealgebra/Numerical (25), Reading (62), and Writing (32).

Publisher: The test publisher and the address, contact person, telephone, and fax number of the test publisher are: American College Testing (ACT), Placement Assessment Programs, 2201 North Dodge Street, P.O. Box 168, Iowa City, Iowa 52243, Contact: Dr. John D. Roth, Telephone: (319) 337-1030, Fax: (319) 337-1790.

4. Combined English Language Skills Assessment (CELSA), Forms 1 and 2.

Passing Scores: The approved passing scores on this test are as follows: CELSA Form 1 (90) and CELSA Form 2 (90).

Publisher: The test publisher and the address, contact person, telephone, and fax number of the test publisher are: Association of Classroom Teacher Testers (ACTT), 1187 Coast Village Road, PMB 378, Montecito, California 93108-2794, Contact: Pablo Buckelew, Telephone: (805) 569-0734, Fax: (805) 569-0004.

Note: The CELSA test is approved only for certain students whose native language is not English as provided in 34 CFR 668.153(a)(2).

5. Computerized Placement Tests (CPTs)/Accuplacer (Reading Comprehension, Sentence Skills, and Arithmetic).

Passing Scores: The approved passing scores on this test are as follows: Reading Comprehension (55), Sentence Skills (60), and Arithmetic (34).

Publisher: The test publisher and the address, contact person, telephone, and fax number of the test publisher are: The College Board, 45 Columbus Avenue, New York, New York 10023-6992, Contact: Ms. Suzanne Murphy, Telephone: (405) 842-9891, Fax: (405) 842-9894.

6. Descriptive Tests: Descriptive Tests of Language Skills (DTLS) (Reading Comprehension, Sentence Structure and Conventions of Written English)—Forms M-K-3KDT and M-K-3LDT; and Descriptive Tests of Mathematical Skills (DTMS) (Arithmetic)—Forms M-K-3KDT and M-K-3LDT.

Passing Scores: The approved passing scores on this test are as follows: Reading Comprehension (108), Sentence Structure (9), Conventions of Written English (309), and Arithmetic (506).

Publisher: The test publisher and the address, contact person, telephone, and fax number of the test publisher are: The College Board, 45 Columbus Avenue, New York, New York 10023-6992, Contact: Ms. Suzanne Murphy, Telephone: (405) 842-9891, Fax: (405) 842-9894.

7. Wonderlic Basic Skills Test (WBST)—Verbal Forms VS-1 & VS-2, Quantitative Forms QS-1 & QS-2.

Passing scores: The approved passing scores on this test are as follows: Verbal (200) and Quantitative (210).

Publisher: The test publisher and the address, contact person, and telephone, and fax number of the test publisher are: Wonderlic Personnel Test, Inc., 1795 N. Butterfield Road, Libertyville, IL 60048, Contact: Mr. David Teuber, Telephone: (877) 605-9499, Fax: (847) 680-9492.

8. WorkKeys Program—Reading for Information Forms A01AA, A02AA, C01AA & D10AA; Applied Mathematics Forms A01BB, A02BB, C01BB, & D01BB.

Passing scores: The approved passing scores on this test are as follows:

Reading for Information—Forms A01AA (76), A02AA (75), C01AA (77) & D10AA (77);

Applied Mathematics—Forms A01BB (73), A02BB (74), C01BB (73) & D01BB (73).

Publisher: The test publisher and the address, contact person, and telephone, and fax number of the test publisher are: American College Testing (ACT), WorkKeys Development, Professional Development Services, 101 ACT Drive, P.O. Box 168, Iowa City, Iowa 52243-0168, Contact: Dr. A. Candace Noble, Telephone: (319) 337-1296, Fax: (319) 337-1229.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO) toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1091(d).

Dated: March 8, 2005.
Theresa S. Shaw,
Chief Operating Officer, Federal Student Aid.

[FR Doc. 05-4870 Filed 3-10-05; 8:45 am]

BILLING CODE 4000-01-P